DEPARTMENT OF HEALTH AND HUMAN SERVICES

Solicitation for Public Comments on Questions From the Task Force on Maternal Mental Health

AGENCY: Office on Women's Health, Office of the Assistant Secretary for Health, Office of the Secretary; Substance Abuse and Mental Health Services Administration (SAMHSA), U.S. Department of Health and Human Services (HHS)

ACTION: Notice of request for information

SUMMARY: The Task Force on Maternal Mental Health (Task Force), which is being implemented as a subcommittee of the SAMHSA Advisory Committee for Women's Services (ACWS), solicits public comments on a set of questions concerning the context, policies, effectiveness, promising practices, and limitations and gaps related to prevention and treatment of maternal mental health conditions and substance use disorders (inclusive of alcohol use/misuse) and its complications. The Task Force is required to solicit public comments, as appropriate, from stakeholders for the purposes of developing a report that analyzes and evaluates the state of maternal mental health programs at the Federal level and identifies best practices with respect to maternal mental health and substance use disorders as well as a national strategy for improving maternal mental health. The taskforce will be highlighting recommendations that fall within the pregnancy and postpartum (up to 1 year after birth) periods for individuals with or at risk for mental health and substance use conditions.

DATES: Electronic or written/paper comments will be accepted through midnight eastern standard time (EST) January 31, 2024.

ADDRESSES: The set of questions is available in the SUPPLEMENTARY INFORMATION section below. Public comments can be submitted in the following ways:

• Electronic submissions can be filed online at http://www.regulations.gov by following the “Instructions for Public Comments” section below. Comments submitted electronically, including attachments, will be posted to the docket unchanged. Evidence and information supporting your comment can be submitted as attachments. Please provide your contact information or organization name on the web-based form for follow up by the Task Force.

• If you prefer to comment on paper, mail your comment to the following address: 5600 Fishers Lane, Suite 18E01, Rockville, MD 20857. For mailed submissions, OWH/SAMHSA will post your comment, as well as any attachments, to http://www.regulations.gov.

Docket: For access to the docket to read background documents or the electronic and written/paper comments received, go to https://www.regulations.gov and insert the docket ID into the “Search” box and follow the prompts.

FOR FURTHER INFORMATION CONTACT: Valerie Kolick, Designated Federal Officer, Advisory Committee for Women's Services, U.S. Department of Health and Human Services, Substance Abuse and Mental Health Services Administration, 5600 Fishers Lane, Suite 18E01, Rockville, MD 20857. Phone: 240-276-1738 or Email: valerie.kolick@samhsa.hhs.gov.

SUPPLEMENTARY INFORMATION: Section 1113 of the Consolidated Appropriations Act, 2023 (Pub. L. 117-328) requires the HHS Secretary to establish a Task Force on Maternal Mental Health or incorporate the duties, public meetings, and reports specified into existing relevant Federal committees or working groups. The Task Force consists of representatives of specific federal agencies and non-federal individuals and entities who represent diverse disciplines and views. The Task Force will evaluate and make recommendations to the ACWS for further deliberation regarding improvements and coordination for Federal activities that address maternal mental health and co-occurring substance use disorders. The ACWS will make final recommendations to the Secretary of Health and Human Services and to Congress.

The Task Force invites members of the public to comment on any issues or concerns they believe are relevant or appropriate to the state of maternal mental health programs at the Federal level, and identification of best practices with respect to maternal mental health and substance use. Specifically, the Task Force requests public comment on the following questions:

1. Data, Research and Quality Improvement:

• What are the priority outcomes for pregnant and postpartum individuals with substance use disorder and/or mental health conditions?

• How would you define quality care for pregnant and postpartum individuals with substance use disorders and/or mental health conditions?

• What are the priority research questions and gaps related to maternal substance use disorder and/or mental health conditions that must be addressed to improve services and outcomes for individuals while pregnant and postpartum?

2. Prevention, Screening and Diagnosis:

• What is lacking and what is working to support maternal emotional health, and substance use and well-being during pregnancy and after?

• What steps should be taken to ensure that approaches to detecting maternal emotional health issues and substance use challenges are culturally appropriate?

• What can be done to help pregnant and postpartum individuals feel more comfortable to open up about how they are feeling? Who, where, and how might pregnant and postpartum individuals feel safest about disclosing their experience?

3. Evidence-based Intervention and Treatment:

• What are key evidence-based intervention and treatment models that should be broadly implemented to address maternal mental health and substance use?

i. Do providers have the training and resources to appropriately provide evidenced-based intervention and treatment or referral?

ii. Are community-based resources being utilized to bridge the gap in education, evidence-based screening, and treatment or referral? If not, what are the challenges of incorporating culturally competent community-based health care workers?

• What are the barriers/gaps to evidence-based intervention for maternal mental health and substance use among reproductive age individuals? How do access and engagement differ between people who have already received mental health and/or substance use treatment prior to pregnancy versus those who never have?

• Are underserved populations represented in the research and subsequent guidelines developed from the research for screening and treatment? What evidence is still needed to inform guidelines for screening and treatment, including for underrepresented, underserved populations?

i. Underserved populations may include Black, Latino, and Indigenous and American Indian/Alaska Native persons, Asian Americans and Pacific Islanders and other persons of color; members of religious minorities; lesbian, gay, bisexual, transgender, queer, and intersex (LGBTQI+) persons; persons with disabilities; persons who live in rural areas; and persons otherwise adversely affected by persistent poverty or inequality.

4. Evidence-Based Community Practices:

• What are the most pressing needs related to maternal mental health and maternal substance use in your community? For the purposes of this question, please define “community” however it most resonates with you (e.g., geography, race, ethnicity, sexual orientation, and gender identity, disability status, American Indian/Alaska Native status, veteran status, etc.)

• What strategies have been the most successful, transformative, and/or sustainable in addressing maternal mental health and maternal substance use needs in your community? What strategies have been the least successful, transformative, and/or sustainable, and why?

• What innovations are needed to better address maternal mental health and substance use needs in your community (i.e., how can community-based organizations and entrepreneurs partner to address gaps and provide support for areas of identified need)?

5. Communications and Community Engagement:

• What do ideal services and resources look like for a pregnant or postpartum individual in your community? And what are barriers to access to these services?

• What steps should be taken to ensure that approaches to detecting maternal emotional health issues and substance use challenges are culturally appropriate?

• What can be done to help mothers and pregnant and postpartum people feel more comfortable to open up about how they are feeling? Who, where, and how might mothers and pregnant and postpartum people feel safest about disclosing their experience?

How to submit a response: All submissions must be submitted in the Docket ID HHS- for “Solicitation for Public Comments on Questions from the Task Force on Maternal Mental Health.” Comments are encouraged from the public and will be accepted through January 31, 2024. The https://www.regulations.gov electronic filing system will accept electronic comments until midnight eastern time at the end of January 31, 2024. Comments received by mail/courier will be considered if they are postmarked or the delivery service acceptance receipt date is on or before that date. Written comments via mail will be uploaded into https://www.regulations.gov and are under the same limitations as for those directly submitted electronically into https://www.regulations.gov: 5,000 character limit for text box, and maximum number (10) of attached files and maximum size (10 MB) of each attached file.

This RFI is for informational and planning purposes only and is not a solicitation for applications or an obligation on the part of the Government to provide support for any ideas identified in response to it. Please note that the Government will not pay for the preparation of any information submitted or for use of that information.

Alicia Broadus,
Public Health Advisor.

[FR Doc. 2023-28890 Filed 1-8-24; 8:45 am]

BILLING CODE 4162-20-P